SURFACE TRANSPORTATION BOARD

[Docket No. FD 36457]

Watco Holdings, Inc.—Continuance in Control Exemption—Dutchtown Southern Railroad, L.L.C.

Watco Holdings, Inc. (Watco), a noncarrier, has filed a verified notice of exemption under 49 CFR 1180.2(d)(2) to continue in control of Dutchtown Southern Railroad, L.L.C. (DUSR), a noncarrier controlled by Watco, upon DUSR's becoming a Class III rail carrier.

This transaction is related to a verified notice of exemption filed concurrently in Dutchtown Southern Railroad, L.L.C.—Lease & Operation Exemption—Illinois Central Railroad Company, Docket No. FD 36456, in which DUSR seeks to lease from Illinois Central Railroad Company and operate approximately 9,285 feet of track known as the Rubber Lead Track, in Geismar, Ascension Parish, La.

The transaction may be consummated on or after January 8, 2021, the effective date of the exemption (30 days after the verified notice was filed).

According to the verified notice of exemption, Watco currently controls indirectly 38 Class III railroads and one Class II railroad, collectively operating in 27 states. For a complete list of these rail carriers and the states in which they operate, see the Appendix to Watco's December 9, 2020 verified notice of exemption. The verified notice is available at www.stb.gov.

Watco represents that: (1) The rail line to be leased and operated by DUSR does not connect with the rail lines of any of the rail carriers controlled by Watco; (2) this transaction is not part of a series of anticipated transactions that would connect DUSR with any railroad in the Watco corporate family; and (3) the transaction does not involve a Class I rail carrier. The proposed transaction is therefore exempt from the prior approval requirements of 49 U.S.C. 11323 pursuant to 49 CFR 1180.2(d)(2).

Under 49 U.S.C. 10502(g), the Board may not use its exemption authority to relieve a rail carrier of its statutory obligation to protect the interests of its employees. Because the transaction involves the control of one Class II and one or more Class III rail carriers, the transaction is subject to the labor protection requirements of 49 U.S.C. 11326(b) and Wisconsin Central Ltd.—Acquisition Exemption—Lines of Union Pacific Railroad, 2 S.T.B. 218 (1997).

If the verified notice contains false or misleading information, the exemption is void ab initio. Petitions to revoke the exemption under 49 U.S.C. 10502(d) may be filed at any time. The filing of a petition to revoke will not automatically stay the effectiveness of the exemption. Petitions for stay must be filed no later than December 31, 2020 (at least seven days before the exemption becomes effective).

All pleadings, referring to Docket No. FD 36457, should be filed with the Surface Transportation Board via e-filing on the Board's website. In addition, one copy of each pleading must be served on Watco's representative, Robert A. Wimbish, Fletcher & Sippel LLC, 29 North Wacker Drive, Suite 800, Chicago, IL 60606-3208.

According to Watco, this action is categorically excluded from environmental review under 49 CFR 1105.6(c) and from historic reporting requirements under 49 CFR 1105.8(b).

Board decisions and notices are available at www.stb.gov.

Decided: December 17, 2020.
By the Board, Allison C. Davis, Director, Office of Proceedings.
Kenyatta Clay,
Clearance Clerk.

[FR Doc. 2020-28275 Filed 12-22-20; 8:45 am]

BILLING CODE 4915-01-P